DEPARTMENT OF HOMELAND SECURITY

Federal Emergency Management Agency

44 CFR Part 67

[Docket No. FEMA-B-1000]

Proposed Flood Elevation Determinations

AGENCY: Federal Emergency Management Agency, DHS.

ACTION: Proposed rule.

SUMMARY: Comments are requested on the proposed Base (1 percent annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or show evidence of having in effect in order to qualify or remain qualified for participation in the National Flood Insurance Program (NFIP). In addition, these elevations, once finalized, will be used by insurance agents, and others to calculate appropriate flood insurance premium rates for new buildings and the contents in those buildings.

DATES: Comments are to be submitted on or before November 17, 2008.

ADDRESSES: The corresponding preliminary Flood Insurance Rate Map (FIRM) for the proposed BFEs for each community are available for inspection at the community's map repository. The respective addresses are listed in the table below.

You may submit comments, identified by Docket No. FEMA-B-1000, to William R. Blanton, Jr., Chief, Engineering Management Branch, Mitigation Directorate, Federal Emergency Management Agency, 500 C Street, SW., Washington, DC 20472, (202) 646-3151, or (e-mail) bill.blanton@dhs.gov.

FOR FURTHER INFORMATION CONTACT: William R. Blanton, Jr., Chief, Engineering Management Branch, Mitigation Directorate, Federal Emergency Management Agency, 500 C Street, SW., Washington, DC 20472, (202) 646-3151 or (e-mail) bill.blanton@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Comments on any aspect of the Flood Insurance Study and FIRM, other than the proposed BFEs, will be considered. A letter acknowledging receipt of any comments will not be sent.

Administrative Procedure Act Statement. This matter is not a rulemaking governed by the Administrative Procedure Act (APA), 5 U.S.C. 553. FEMA publishes flood elevation determinations for notice and comment; however, they are governed by the Flood Disaster Protection Act of 1973, 42 U.S.C. 4105, and the National Flood Insurance Act of 1968, 42 U.S.C. 4001 et seq., and do not fall under the APA.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

State | City/town/county | Source of flooding | Location** | * Elevation in feet (NGVD) + Elevation in feet (NAVD) # Depth in feet above ground: Existing | * Elevation in feet (NGVD) + Elevation in feet (NAVD) # Depth in feet above ground: Modified
Town of Salisbury, Massachusetts
Massachusetts | Town of Salisbury | Atlantic Ocean | Along Atlantic Avenue south of Vermont St. to Railroad Ave | None | +14
|  |  | Along Atlantic Avenue approximately 500' south of Railroad Ave | None | +15
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Town of Salisbury
Maps are available for inspection at 5 Beach Road, Town of Salisbury, MA 01950.

Flooding source(s) | Location of referenced elevation ** | * Elevation in feet (NGVD) + Elevation in feet (NAVD) # Depth in feet above ground: Effective | * Elevation in feet (NGVD) + Elevation in feet (NAVD) # Depth in feet above ground: Modified | Communities affected
Lawrence County, Alabama, and Incorporated Areas
Tennessee River | At confluence of Wilson Lake (Tennessee River) and Town Creek approximately 2.6 miles downstream of Wheeler Dam | None | +509 | Unincorporated Areas of Lawrence County.
| Just below Wheeler Dam | None | +511
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Unincorporated Areas of Lawrence County
Maps are available for inspection at 750 Main Street, Moulton, AL 35650.
Orange County, Florida, and Incorporated Areas
Apache Lake | Bound by Arrowhead Boulevard to the north, Arrena Road to the west, Orange/Osceola county boundary to the south, and Strahan Boulevard to the east | None | +111 | Unincorporated Areas of Orange County.
Bear Bay | Bound by Hartzog Road to the north, Avalon Road to the west, Hartzog Road to the south and east | None | +104 | Unincorporated Areas of Orange County.
Border Lake | Entire shoreline | +79 | +77 | City of Apopka.
Cypress Creek | Approximately 1,580 feet downstream of Winter Garden Vineland Road | None | +98 | Unincorporated Areas of Orange County.
| Approximately 2.6 miles upstream of Winter Garden Vineland Road | +101 | +102
Doe Lake | Entire shoreline | None | +108 | Unincorporated Areas of Orange County.
Druid Lake | Bound by Chelsea Street to the north, North Bumby Avenue to the west, Seabee Street to the south, and Port Hueneme Avenue to the east | None | +104 | City of Orlando.
Flooding Effects from Hancock Lake (Lake County) | Bound by Old YMCA Road to the north, Orange/Lake county boundary to the west, Lake Star Road to the south, and Avalon Road to the east | None | +110 | Unincorporated Areas of Orange County.
| Bound by Lake Ihrig to the north, Orange/Lake county boundary to the west, Lake Star Road to the south, and Avalon Road to the east | None | +115
| Bound by Flemings Road to the north, Orange/Lake county boundary to the west, County Road to the south, and Avalon Road to the east | None | +115
Flooding Effects from Sawgrass Bay (Lake County) | Bound by Unnamed Lake E to the north, Orange/Lake county boundary to the west, Lake Ihrig to the south, and Unnamed Lake I to the east | None | +106 | Unincorporated Areas of Orange County.
Grass Lake | Bound by County Road to the north, Orange/Lake county boundary to the west, Bali Boulevard to the south, and Avalon Road to the east | +114 | +113 | Unincorporated Areas of Orange County.
Hicorynut Lake | Bound by Old YMCA Road to the north, Orange/Lake county boundary to the west, Lake Star Road to the south, and Avalon Road to the east | +106 | +104 | Unincorporated Areas of Orange County.
Huckleberry Lake | Bound by Phil Ritson Way to the north, Avalon Road to the west, Seidel Road to the south, and Lake Hancock Road to the east | None | +97 | Unincorporated Areas of Orange County.
John Young Parkway Drainage Canal | Approximately 1,000 feet downstream of Mercy Drive | None | +89 | Unincorporated Areas of Orange County, City of Orlando.
| Just downstream of North Texas Avenue | None | +94
Lake 74 | Bound by Canterclub Trail to the north, Haverlake Circle to the west, Orangehurst Street to the south, and Orange/Seminole county boundary to the east | None | +114 | Unincorporated Areas of Orange County.
Lake Angel | Bound by 23rd Street to the north, S. Westmoreland Drive to the west, 26th Street to the south, and Interstate 4 to the east | None | +104 | Unincorporated Areas of Orange County, City of Orlando.
Lake Austin | Entire shoreline | +114 | +113 | Unincorporated Areas of Orange County.
Lake Bessie | Entire shoreline | +102 | +101 | Town of Windermere, Unincorporated Areas of Orange County.
Lake Blanche | Entire shoreline | +102 | +101 | Unincorporated Areas of Orange County.
Lake Britt | Bound by Hartzog Road to the north, Avalon Road to the west, and Hartzog Road to the south and east | None | +105 | Unincorporated Areas of Orange County.
Lake Burden | Bound by Chase Road to the north, Winter Garden Vineland Road to the west and south, and Lake Tibet to the east | None | +108 | Unincorporated Areas of Orange County.
Lake Butler | Bound by Lake Butler Boulevard to the north, West Lake Butler Road to the west, Chase Road to the south, and Main Street to the east | +102 | +101 | Unincorporated Areas of Orange County, Town of Windermere.
Lake Cay Dee | Bound by Corrine Drive to the north, Falcon Drive to the west, Chelsea Street to the south, and Oriole Avenue to the east | None | +110 | City of Orlando.
Lake Chapin | Bound by Arrowhead Boulevard to the north, Avalon Road to the west, Interstate 192 to the south, and Arrena Road to the south | None | +111 | Unincorporated Areas of Orange County.
Lake Florence | Bound by Lake Florence to the north and west, Good Homes Road to the south and east | None | +81 | Unincorporated Areas of Orange County, City of Ocoee.
Lake Fran | Entire shoreline | +98 | +95 | City of Orlando.
Lake Gifford | Entire shoreline | None | +113 | Unincorporated Areas of Orange County.
Lake Hancock | Bound by McKinney Road to the north, Avalon Road to the west, Porter Road to the south, and Ficquette Road to the east | None | +99 | Unincorporated Areas of Orange County.
Lake Hartley | Entire shoreline | None | +99 | Unincorporated Areas of Orange County.
Lake Heney | Entire shoreline | +104 | +106 | Unincorporated Areas of Orange County.
Lake Ihrig | Entire shoreline | None | +106 | Unincorporated Areas of Orange County.
Lake Johio | Bound by New Victor Road to the north, Tuscany Mill Way to the west, Azalea Ranch Lane to the south, and Johio Shores Road to the east | None | +120 | Unincorporated Areas of Orange County, City of Ocoee.
Lake June | Bound by 18th Street to the north, Highway 441 to the west, West Kaley Avenue to the south, and South Westmoreland Drive to the east | None | +105 | Unincorporated Areas of Orange County.
Lake Lotta | Bound by Floribunda Drive to the north, South Clarke Road to the west, State Highway 408 West to the south, and Good Homes Road to the east | +93 | +91 | Unincorporated Areas of Orange County, City of Ocoee.
Lake Lucy | Entire shoreline | +73 | +81 | Unincorporated Areas of Orange County.
Lake Mabel | Bound by Winter Garden Vineland Road to the north, Reams Road to the west, Vista Boulevard to the south, and Winter Garden Vineland to the east | +97 | +95 | Unincorporated Areas of Orange County.
Lake Moxie | Entire shoreline | +141 | +143 | City of Ocoee.
Lake Needham | Bound by Schofield Road to the north, Orange/Lake county boundary to the west, Old YMCA Road to the south, and Avalon Road to the east | +107 | +106 | Unincorporated Areas of Orange County.
Lake Notasulga | Bound by State Highway 50 to the north, Feguson Drive to the west, Old Winter Garden Road to the south, and State Highway 423 to the east | None | +99 | Unincorporated Areas of Orange County, City of Orlando.
Lake Oliver | Entire shoreline | +114 | +113 | Unincorporated Areas of Orange County.
Lake Olympia | Entire shoreline | +100 | +102 | Unincorporated Areas of Orange County.
Lake Pit | Bound by Flemings Road to the north, to Orange/Lake county boundary to the west, County Road to the south, and Avalon Road to the east | +114 | +113 | Unincorporated Areas of Orange County.
Lake Prima Vista | Bound by Starke Lake to the north, Lakewood Avenue to the west, East Orlando Avenue to the south, and East Lakeshore Drive to the east | +100 | +102 | Unincorporated Areas of Orange County, City of Ocoee.
Lake Reams | Entire shoreline | None | +99 | Unincorporated Areas of Orange County.
Lake Rexford | Bound by Hartzog Road to the north, Avalon Road to the west, Arrowhead Boulevard to the south and to the east | None | +112 | Unincorporated Areas of Orange County.
Lake Rhea | Bound by Roberson Road to the north, Windermere Road to the west, Willow Gardens Road to the south, and Maguire Road to the east | +117 | +118 | Unincorporated Areas of Orange County.
Lake Sawgrass | Bound by Porter Road to the north, Phil Ritson Way to the west, Lake Hancock Road to the south and to the east | None | +99 | Unincorporated Areas of Orange County.
Lake Sawyer | Bound by Winter Garden Vineland Road to the north, Ficquette Hancock Road to the west, Overstreet Road to the south, and Winter Garden Vineland Road to the east | None | +106 | Unincorporated Areas of Orange County.
Lake Scott | Bound by Hartzog Road to the north, Avalon Road to the west, Arrowhead Boulevard to the south, and Vista Del Lago Boulevard to the east | None | +112 | Unincorporated Areas of Orange County.
Lake Sentinel | Bound by Lake Starr Road to the north and to the west, Flemings Road to the south, and Avalon Road to the east | +112 | +110 | Unincorporated Areas of Orange County.
Lake Sharp | Entire shoreline | None | +99 | Unincorporated Areas of Orange County.
Lake Speer | Bound by Tilden Road to the north, Tiny Road to the west, Ficquette Road to the south, and Winter Garden Vineland Road to the east | None | +101 | Unincorporated Areas of Orange County.
Lake Stanley | Bound by Lowman Avenue to the north, Cedar Bluff Lane to the west, State Highway 438 to the south, and North Apopka Vineland Road to the east | None | +84 | Unincorporated Areas of Orange County, City of Ocoee.
Lake Starr | Bound by Lake Starr Road to the north and to the west, Flemings Road to the south, and Avalon Road to the east | +112 | +111 | Unincorporated Areas of Orange County, City of Ocoee.
Lake Theresa | Bound by Pelican Road to the north, Executive Center Drive to the west, Maguire Boulevard to the south, and Bennet Road to the east | +112 | +113 | City of Orlando.
Lake William Davis | Bound by West Lake Butler Road to the north, Winter Garden Vineland Road to the west and to the south, and West Lake Butler Road to the east | None | +101 | Unincorporated Areas of Orange County.
Little Fish Lake | Entire shoreline | +102 | +101 | Unincorporated Areas of Orange County.
Little Lake Sawyer | Bound by Winter Garden Vineland Road to the north, Ficquette Hancock Road to the west, Overstreet Road to the south, and Winter Garden Vineland Road to the east | None | +106 | Unincorporated Areas of Orange County.
Little Osage Lake | Bound by Osage Lake to the north, Strahan Boulevard to the west, Orange/Osceola county boundary to the south, and Vista Del Lago Boulevard to the east | None | +111 | Unincorporated Areas of Orange County.
Mudd Lake | Entire shoreline | +114 | +113 | Unincorporated Areas of Orange County.
Orange County | Lake Gillooly | None | +83 | Unincorporated Areas of Orange County, City of Orlando.
Pond Outfall Canal | Approximately 2,640 feet upstream of East Landstreet Road | None | +94
Osage Lake | Bound by Arrowhead Boulevard to the north and west, Orange/Osceola county boundary to the south, and Vista Del Lago Boulevard to the east | None | +111 | Unincorporated Areas of Orange County.
Peach Lake | Entire shoreline | +149 | +151 | City of Ocoee.
Pond 740 | Bound by State Highway 50 to the north, Mercy Drive to the west, Old Winter Garden Road to the south, and Ferguson Drive to the east | None | +99 | City of Orlando.
Ponding Area 395-1 | Bound by Orange/Lake county boundary to the north, Rainey Road to the west, Swain Road to the south, and Mt. Plymouth Road to the east | None | +62 | Unincorporated Areas of Orange County.
Ponding Area No. 30 | Bound by Lynx Lane to the north, State Highway 423 to the west, State Highway 438 to the south, and North Texas Avenue to the east | None | +98 | City of Orlando.
Ponding Area No. 31 | Bound by State Highway 438 to the north, State Highway 423 to the west, John Young Parkway Drainage Canal to the south, and Brinkley Way to the east | None | +97 | City of Orlando.
Ponding Area No. 32 | Bound by State Highway 438 to the north, State Highway 423 to the west, John Young Parkway Drainage Canal to the south, and North Texas Avenue to the east | None | +96 | City of Orlando.
Ponding Area No. 33 | Bound by W. Judge Drive to the north, Kensington Drive to the west, State Highway 50 to the south, and State Highway 423 to the east | None | +98 | City of Orlando.
Ponding Area No. 34 | Bound by West D. Judge Drive to the north, Kensington Drive to the west, State Highway 50 to the south, and State Highway 423 to the east | None | +96 | City of Orlando.
Ponding Area No. 35 | Bound by West D. Judge Drive to the north, Mercy Drive to the west, State Highway 50 to the south, and Ferguson Drive to the east | None | +96 | City of Orlando, Unincorporated Areas of Orange County.
Ponding Area No. 36 | Bound by West D. Judge Drive to the north, Mercy Drive to the west, El Rey Road to the south, and Ferguson Drive to the east | None | +96 | City of Orlando.
Ponding Area No. 37 | Bound by Boston Common Street to the north, Mercy Drive to the west, El Rey Road to the south, and Ferguson Drive to the east | None | +96 | City of Orlando, Unincorporated Areas of Orange County.
Ponding Area No. 38 | Bound by Racoon Lake to the north, Ranger Smiths Circle to the west, Orange/Osceola county boundary to the south, and Orange Lake Circle to the east | None | +105 | Unincorporated Areas of Orange County.
Ponding Area No. 39 | Bound by Orange Lake Circle to the north, Ponding Area No. 38 to the west, Orange/Osceola county boundary to the south, and Orange Lake Boulevard to the east | None | +105. | Unincorporated Areas of Orange County.
Ponding Area No. 40 | Bound by Aviendo Del Lago Drive to the north, Vista Del Lago to the west, Daeza Drive to the south, and Racoon Lake to the east | None | +110 | Unincorporated Areas of Orange County.
Ponding Area No. 41 | Bound by Lake Kem Way to the north, Racoon Lake to the west, and Orange Lake Boulevard to the south and to the east | None | +105 | Unincorporated Areas of Orange County.
Ponding Area No. 42 | Bound by Hartzog Road to the north, Lake Kem Way to the west and to the south, and Cypress Circle to the east | None | +105 | Unincorporated Areas of Orange County.
Ponding Area No. 43 | Bound by Hartzog Road to the north, Avalon Road to the west, and Hartzog Road to the south and to the east | None | +110 | Unincorporated Areas of Orange County.
Ponding Area No. 44 | Bound by Hartzog Road to the north, Avalon Road to the west, and Hartzog Road to the south and to the east | None | +107 | Unincorporated Areas of Orange County.
Ponding Area No. 45 | Bound by Hartzog Road to the north, Avalon Road to the west, and Hartzog Road to the south and to the east | None | +106 | Unincorporated Areas of Orange County.
Ponding Area No. 49 | Bound by County Road to the north, Orange/Lake county boundary to the west, Bali Boulevard to the south, and Avalon Road to the east | None | +116 | Unincorporated Areas of Orange County.
Ponding Area No. 50 | Bound by Bali Avenue to the north, Orange/Lake county boundary to the west, Orange/Osceola county boundary to the south, and Bali Avenue to the east | None | +112 | Unincorporated Areas of Orange County.
Ponding Area No. 51 | Bound by Hartzog Road to the north, Avalon Road to the west, Arrowhead Boulevard to the south, and Vista Del Lago Boulevard to the east | None | +113 | Unincorporated Areas of Orange County.
Ponding Area No. 52 | Bound by Hartzog Road to the north, Avalon Road to the west, Arrowhead Boulevard to the south, and Vista Del Lago Boulevard to the east | None | +112 | Unincorporated Areas of Orange County.
Ponding Area No. 53 | Bound by Hartzog Road to the north, Avalon Road to the west, Arrowhead Boulevard to the south, and Vista Del Lago Boulevard to the east | None | +112 | Unincorporated Areas of Orange County.
Ponding Area No. 54 | Bound by Vista Del Lago Boulevard to the north, Avalon Road to the west, Cordoba Street to the south, and Vista Del Lago Boulevard to the east | None | +113 | Unincorporated Areas of Orange County.
Ponding Area No. 55 | Bound by Vista Del Lago Boulevard to the north, Avalon Road to the west, Cordoba Street to the south, and Vista Del Lago Boulevard to the east | None | +112 | Unincorporated Areas of Orange County.
Ponding Area No. 56 | Bound by Cordoba Street to the north, Arrowhead Boulevard to the west, Osage Lake to the south, and Vista Del Lago Boulevard to the east | None | +111 | Unincorporated Areas of Orange County.
Ponding Area No. 57 | Bound by Flemings Road to the north, Orange/Lake county boundary to the west, County Road to the south, and Avalon Road to the east | +114 | +115 | Unincorporated Areas of Orange County.
Ponding Area No. 58 | Bound by Old YMCA Road to the north and to the west, Hickorynut Lake to the south, and Avalon Road to the east | None | +104 | Unincorporated Areas of Orange County.
Ponding Area No. 60 | Bound by Seidel Road to the north, Avalon Road to the west, Hartzog Road to the south, and Reedy Lake to the east | None | +106 | Unincorporated Areas of Orange County.
Ponding Area No. 61 | Bound by Malcom Road to the north, Avalon Road to the west, McKinney Road to the south, and Mann Road to the east | None | +100 | Unincorporated Areas of Orange County.
Ponding Area No. 62 | Bound by Tilden Road to the north, Tiny Road to the west, Lake Speer to the south, and Winter Garden Vineland Road to the east | None | +102 | Unincorporated Areas of Orange County.
Ponding Area No. 63 | Bound by McKinney Road to the north, Avalon Road to the west, Porter Road to the south, and Ficquette Hancock Road to the east | None | +102 | Unincorporated Areas of Orange County.
Ponding Area No. 64 | Bound by Lake Star Road to the north Flemings Road to the west and to the south, and Avalon Road to the east | None | +116 | Unincorporated Areas of Orange County.
Ponding Area No. 65 | Bound by Hartzog Road to the north, Avalon Road to the west, and Hartzog Road to the south and to the east | None | +107 | Unincorporated Areas of Orange County.
Ponding Area No. 66 | Bound by Whittenhorse Creek to the north, Hartzog Road to the west, Boggy Creek 2 to the south, and Perimeter Canal to the east | None | +103 | Unincorporated Areas of Orange County.
Ponding Area No. 67 | Bound by Porter Road to the north, Avalon Road to the west, Seidel Road to the south and to the east | None | +99 | Unincorporated Areas of Orange County.
Ponding Area No. 68 | Bound by West Lake Butler Road to the north, Winter Garden Vineland Road to the west and to the south, and West Lake Butler Road to the east | None | +106 | Unincorporated Areas of Orange County.
Ponding Area No. 69 | Bound by Overstreet Road to the north, Reams Road to the west and to the south, and Winter Garden Vineland Road to the east | None | +108 | Unincorporated Areas of Orange County.
Ponding Area No. 70 | Bound by Lake Butler to the north, Winter Garden Vineland Road to the west, Sandy Shores Drive to the south and to the east | None | +101 | Unincorporated Areas of Orange County.
Ponding Area No. 71 | Bound by Park Ridge Gotha Road to the north, Maguire Road to the west, Wonder Lane to the south, and Down Hollow Road to the east | +102 | +106 | Unincorporated Areas of Orange County.
Ponding Area No. 72 | Bound by Wonder Lane to the north, Maguire Road to the west, Down Yonder Lane to the south, and Lake Down to the east | +101 | +103 | Unincorporated Areas of Orange County.
Ponding Area No. 73 | Bound by Chase Road to the north and to the west, Isleworth Country Club Drive to the south, and railroad to the east | +101 | +102 | Unincorporated Areas of Orange County.
Ponding Area No. 75 | Bound by Brookline Drive to the north, railroad to the west and to the south, and Brookline Drive to the east | None | +111 | Unincorporated Areas of Orange County.
Ponding Area No. 76 | Bound by Bat Hill Boulevard to the north and to the west, Shawn Park Place to the south, and Donegal Drive to the east | +101 | +103 | Unincorporated Areas of Orange County.
Ponding Area No. 77 | Bound by Lost Cove Road to the north, Shawn Park Place to the west, South Bay Drive to the south, and Lost Cove Road to the east | +102 | +103 | Unincorporated Areas of Orange County.
Ponding Area No. 78 | Bound by State Highway 50 to the north, State Route 408 Off Ramp to the west and to the south, and Citrus Oaks Avenue to the east | None | +92 | Unincorporated Areas of Orange County, City of Ocoee.
Ponding Area No. 79 | Bound by Clarcona Ocoee Road to the north, Licaria Drive to the west, Nicole Boulevard to the south, and Lauren Beth Avenue to the east | None | +89 | Unincorporated Areas of Orange County, City of Ocoee.
Ponding Area No. 80 | Bound by Lumberjack Lane to the north, Log Wagon Road to the west, Hackney Prairie Road to the south, and Timber Ridge Trail to the east | None | +96 | City of Ocoee.
Ponding Area No. 81 | Bound by Natchez Trace Boulevard to the north and to the west, Montevello Court to the south, and Sackett Circle to the east | None | +115 | Unincorporated Areas of Orange County.
Ponding Area No. 82 | Bound by White Road to the north, Rosemist Court to the west, and South Clarke Road to the south and to the east | None | +97 | Unincorporated Areas of Orange County.
Racoon Lake | Bound by Hartzog Road to the north, Boo Boo Road to the west, Orange/Osceola county boundary to the south, and Orange Lake Boulevard to the east | None | +105 | Unincorporated Areas of Orange County.
Reedy Lake | Bound by Overstreet Road to the north, Lake Reams Boulevard to the west, Reams Road to the south and to the east | None | +96 | Unincorporated Areas of Orange County.
Rock Lake | Bound by Rock Lake Drive to the north, North Tampa Avenue to the west, West Washington Street to the south, and Highway 441 to the east | None | +100 | City of Orlando.
Shingle Creek | Orange/Osceola county boundary | +76 | +75 | Unincorporated Areas of Orange County.
| Just downstream of Raleigh Street | +96 | +97
South Lake | Bound by Connie Drive to the north, World Drive to the west, Vista Boulevard to the south, and Winter Garden Vineland Road to the east | +97 | +95 | Unincorporated Areas of Orange County.
Southport Ditch | Just downstream of Tradeport Drive South | None | +87 | City of Orlando.
| Approximately 1,000 feet upstream of Andros Place | None | +89
Spring Lake No. 3 | Bound by railroad to the north, Ridgefield Avenue to the west, Century Oak Driveto the south, and North Clarke Road to the east | +121 | +117 | Unincorporated Areas of Orange County, City of Ocoee.
Starke Lake | Bound by State Highway 438 to the north, North Lakeshore Drive to the west, East Lakeshore Drive to the south, and 1st Street to the east | +100 | +102 | Unincorporated Areas of Orange County, City of Ocoee.
Stream A No. 1 | Approximately 400 feet downstream of North Bluford Avenue | +100 | +102 | City of Ocoee.
| Just downstream of North Kissimmee Avenue | +112 | +113
Stream B | Just downstream of Ocoee Apopka Road | None | +89 | Unincorporated Areas of Orange County.
| Approximately 800 feet downstream of Ocoee Apopka Road | +114 | +111
Stream B (Swamp) | Bound by Fullers Cross Road to the north, Ocoee Apopka Road to the west, State Highway 438 to the south, and North Lakewood Avenue to the east | +116 | +119 | Unincorporated Areas of Orange County, City of Ocoee.
Stream C | Just upstream of State Road 429 | None | +89 | Unincorporated Areas of Orange County, City of Ocoee.
| Just upstream of Palm Drive | None | +116
Texas Basin Ponding Area | Bound by State Highway 50 to the north, State Highway 423 to the west, Old Winter Garden Road to the south, and North Tampa Avenue to the east | None | +100 | Unincorporated Areas of Orange County, City of Orlando.
Tradeport Ditch | Just upstream of Wiley Drive | None | +82 | City of Orlando.
| Just upstream of Oak Bluff Drive | None | +93
Tub Lake | Bound by Seidel Road to the north and to the west, Reedy Lake to the south, and Perimeter Canal to the east | +95 | +96 | Unincorporated Areas of Orange County.
Unnamed Flooding Area (Lake 72) | Bound by Orchard Drive to the north, Majestic Oak Drive to the west and to the south, and Orange/Seminole county boundary to the east | None | +64 | Unincorporated Areas of Orange County.
Unnamed Lake 14 | Bound by Old YMCA Road to the north, Hickorynut Lake to the west and to the south, and Avalon Road to the east | +106 | +103 | Unincorporated Areas of Orange County.
Unnamed Lake 15 | Bound by Phil Ritson Way to the north, Avalon Road to the west, Seidel Road to the south and to the east | +106 | +103 | Unincorporated Areas of Orange County.
Unnamed Lake 17 | Bound by Roberson Road to the north, Windermere Road to the west and to the south, and Kane Park Way to the east | +109 | +106 | Unincorporated Areas of Orange County.
Unnamed Lake D | Entire shoreline | +106 | +105 | Unincorporated Areas of Orange County.
Unnamed Lake E | Entire shoreline | +106 | +105 | Unincorporated Areas of Orange County.
Unnamed Lake F | Entire shoreline | +106 | +104 | Unincorporated Areas of Orange County.
Unnamed Lake G | Entire shoreline | +106 | +104 | Unincorporated Areas of Orange County.
Unnamed Lake H | Entire shoreline | +106 | +104 | Unincorporated Areas of Orange County.
Unnamed Lake I | Entire shoreline | +106 | +104 | Unincorporated Areas of Orange County.
Unnamed Lake J | Entire shoreline | +106 | +107 | Unincorporated Areas of Orange County.
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Apopka
Maps are available for inspection at Apopka City Engineer's Office, 120 East Main Street, Apopka, FL 32704-1229.
City of Ocoee
Maps are available for inspection at Building and Zoning Department, 150 North Lakeshore Drive, Ocoee, FL 34761.
City of Orlando
Maps are available for inspection at City of Orlando Permitting Services, 400 South Orange Avenue, Orlando, FL 32801.
Town of Windermere
Maps are available for inspection at Windermere Town Hall, 614 Main Street, Windermere, FL 34786.
Unincorporated Areas of Orange County
Maps are available for inspection at Orange County Stormwater Management Department, 4200 South John Young Parkway, Orlando, FL 32839.
Madison County, Illinois, and Incorporated Areas
Cahokia Canal | Approximately 1,100 feet northeast of the intersection of Industrial Avenue and Cahokia Street (City of Madison in St. Clair County) | None | +427 | Unincorporated Areas of Madison County, City of Collinsville, City of Madison, Village of Pontoon Beach.
| Diversion with Judys Branch and Burdick Branch | None | +433 |
Cahokia Creek | At confluence with Mississippi River | +436 | +434 | Unincorporated Areas of Madison County, Village of Hartford, Village of South Roxana.
| Approximately 0.5 mile downstream of State Route 255 | +436 | +435 |
Canteen Creek | Approximately 1.2 miles upstream of Collinsville Road | +426 | +427 | Unincorporated Areas of Madison County, City of Collinsville.
| Approximately 900 feet upstream of confluence with Cahokia Creek | None | +428 |
Judys Branch | At confluence with Cahokia Canal | +416 | +433 | Unincorporated Areas of Madison County, Village of Glen Carbon, Village of Pontoon Beach.
| Approximately 0.7 mile upstream of State Route 159 | None | +526 |
Judys Branch Tributary 10 | At confluence with Judys Branch | None | +506 | Village of Glen Carbon.
| Approximately 475 feet downstream of Green Acres Road | None | +507 |
Judys Branch Tributary 5 | At confluence with Judys Branch | None | +474 | Village of Glen Carbon.
| Approximately 350 feet upstream of Barkwood Lane | None | +483 |
Judys Branch Tributary 5a | At confluence with Judys Branch Tributary 5 | None | +486 | Village of Glen Carbon.
| Approximately 1,000 feet upstream of State Route 159 | None | +528 |
Judys Branch Tributary 5b | At confluence with Judys Branch Tributary 5 | None | +484 | Unincorporated Areas of Madison County, Maryville, Village of Glen Carbon.
| Approximately 0.6 mile upstream of State Route 159 | None | +559 |
Judys Branch Tributary 9 | At confluence with Judys Branch | None | +495 | Unincorporated Areas of Madison County, Village of Glen Carbon.
| Approximately 300 feet upstream of E Ingle Drive | None | +497 |
Judys Branch Tributary 9a | At confluence with Judys Branch Tributary 9 | None | +499 | Unincorporated Areas of Madison County, Village of Glen Carbon.
| Approximately 150 feet upstream of Ash Road | None | +517 |
Judys Branch Tributary 9b | At confluence with Judys Branch Tributary 9 | None | +499 | Unincorporated Areas of Madison County.
| Approximately 750 feet east of Harvest Court | None | +508 |
Judys Creek | At confluence with Judys Branch | None | +457 | Unincorporated Areas of Madison County, Village of Glen Carbon.
| Approximately 0.9 mile upstream of Norfolk and Western Railway | None | +523 |
Judys Creek Tributary B | At confluence with Judys Creek | None | +491 | Unincorporated Areas of Madison County, Village of Glen Carbon.
| Approximately 275 feet downstream of Timberwolfe Drive | None | +508 |
Laurel Branch | At confluence with Lindenthal Creek | +490 | +486 | Unincorporated Areas of Madison County, City of Highland.
| Approximately 800 feet southwest of the intersection of 13th Street and Laurel Street | None | +508 |
Laurel Branch Tributary 1 | At confluence with Laurel Branch | None | +497 | Unincorporated Areas of Madison County, City of Highland.
| Approximately 800 feet upstream of Willow Creek Drive | None | +531 |
Lindenthal Creek | Upstream side of Iberg Road | None | +474 | Unincorporated Areas of Madison County, City of Highland.
| Downstream side of Sportsman Road | None | +530 |
Lindenthal Creek Tributary 1 | At confluence with Lindenthal Creek | None | +529 | Unincorporated Areas of Madison County, City of Highland.
| Approximately 1,300 feet upstream of Troxler Avenue | None | +536 |
Lindenthal Creek Tributary 2 | At confluence with Lindenthal Creek Tributary 1 | None | +531 | Unincorporated Areas of Madison County, City of Highland.
| Approximately 400 feet upstream of U.S. Highway 40 | None | +540 |
Lindenthal Creek Tributary 3 | At confluence with Lindenthal Creek Tributary 2 | None | +531 | Unincorporated Areas of Madison County.
| Approximately 1,100 feet upstream of Confluence with Lindenthal Creek Tributary 2 | None | +531 |
Lindenthal Creek Tributary 4 | At confluence with Lindenthal Creek Tributary 1 | None | +531 | City of Highland.
| Approximately 300 feet south of Troxler Avenue | None | +535 |
Mississippi River | Near intersection of Schoenberger Creek No. 1 and I-55 in City of Madison (in St. Clair County) | +403 | +427 | Unincorporated Areas of Madison County, City of Alton, City of Collinsville, City of Edwardsville, City of Granite City, City of Madison, City of Venice, City of Wood River, Village of East Alton, Village of Glen Carbon, Village of Godfrey, Village of Hartford, Village of Pontoon Beach, Village of Roxana, Village of South Roxana.
| Madison County/Jersey County corporate limits | +438 | +437 |
Mooney Creek | Upstream side of Marine Road | +476 | +480 | Unincorporated Areas of Madison County, City of Edwardsville.
| Downstream side of Goshen Road | None | +525 |
Mooney Creek Tributary 1 | At confluence with Mooney Creek | None | +515 | City of Edwardsville.
| Approximately 800 feet upstream of Stonebrooke Drive | None | +520 |
Mooney Creek Tributary 2 | At confluence with Mooney Creek | None | +520 | City of Edwardsville.
| Approximately 1,300 feet downstream of Gusewelle Road | None | +538 |
Smith Lake Tributary | Approximately 0.5 mile downstream of E Edwardsville Road | None | +434 | Unincorporated Areas of Madison County, City of Wood River, Village of Roxana.
| Approximately 500 feet downstream of Lakin Blvd | +433 | +434 |
Wood River | At confluence with Mississippi River | +437 | +435 | Unincorporated Areas of Madison County, City of Alton, Village of East Alton.
| Upstream side of Chicago Missouri & Western Railroad | +437 | +435 |
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Alton
Maps are available for inspection at 101 East Third Street, Alton, IL 62002.
City of Collinsville
Maps are available for inspection at 125 South Center Street, Collinsville, IL 62234.
City of Edwardsville
Maps are available for inspection at 118 Hillsboro Avenue, Edwardsville, IL 62025.
City of Granite City
Maps are available for inspection at 2000 Edison Avenue, Granite City, IL 62040.
City of Highland
Maps are available for inspection at 1115 Broadway, Highland, IL 62249-0218.
City of Madison
Maps are available for inspection at 615 Madison Avenue, Madison, IL 62060.
City of Venice
Maps are available for inspection at 1030 Market Street, Venice, IL 62090.
City of Wood River
Maps are available for inspection at 111 North Wood River Avenue, Wood River, IL 62095.
Unincorporated Areas of Madison County
Maps are available for inspection at 157 North Main Street, Edwardsville, IL 62025-1964.
Village of East Alton
Maps are available for inspection at 119 West Main Street, East Alton, IL 62024.
Village of Glen Carbon
Maps are available for inspection at 151 North Main Street, Glen Carbon, IL 62034.
Village of Godfrey
Maps are available for inspection at 6810 Godfrey Road, Godfrey, IL 62035.
Village of Hartford
Maps are available for inspection at 507 North Delmar Avenue, Hartford, IL 62048.
Village of Pontoon Beach
Maps are available for inspection at 1 Regency Parkway, Pontoon Beach, IL 62040.
Village of Roxana
Maps are available for inspection at 506 Reller Street, Roxana, IL 62084.
Village of South Roxana
Maps are available for inspection at 211 Sinclair Avenue, South Roxana, IL 62087.
Monroe County, Illinois, and Incorporated Areas
Carr Creek | From the confluence with the Mississippi River | +420 | +418 | Unincorporated Areas of Monroe County.
| To the downstream side of Bluff Road | +420 | +418 |
Kaskaskia River | From approximately 700 feet upstream of Anna Lane extended Monroe/Randolph County Boundary | +395 | +392 | Unincorporated Areas of Monroe County.
| To approximately 1,000 feet below Peacock Site Road extended Monroe/St. Clair County Boundary | +395 | +393 |
Mississippi River | From approximately 1,500 feet upstream of DuFrenne Ln (3.4 miles downstream of Monroe/Randolph County Boundary) | +401 | +400 | City of Columbia, Unincorporated Areas of Monroe County, Village of Fults, Village of Valmeyer.
| To approximately 1.8 miles upstream of the Interstate 255 Bridge (approximately 0.7 miles downstream of the Monroe/St.Clair County Boundary) | +421 | +420 |
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Columbia
Maps are available for inspection at Columbia City Hall, 208 South Rapp Avenue, Columbia, IL 62236.
Unincorporated Areas of Monroe County
Maps are available for inspection at Monroe County Courthouse, 100 South Main Street, Waterloo, IL 62298.
Village of Fults
Maps are available for inspection at Fults Village Hall, 160 Main Street, Fults, IL 62244.
Village of Valmeyer
Maps are available for inspection at Valmeyer Village Hall, 626 South Meyer Avenue, Valmeyer, IL 62295.
St. Mary Parish, Louisiana, and Incorporated Areas
Bayou Teche | At West Calumet Floodgate | +6 | +8 | Unincorporated Areas of St. Mary Parish, City of Franklin.
| At Oaklawn Bridge Rd | +8 | +9 |
Gulf of Mexico | Base Flood Elevation changes ranging from 8 to 14 feet in the form of Coastal AE zones have been made. | +8-19 | +8-14 | Unincorporated Areas of St. Mary Parish.
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Franklin
Maps are available for inspection at Franklin City Hall, 300 Iberia St., Franklin, LA 70538.
Unincorporated Areas of St. Mary Parish
Maps are available for inspection at St. Mary Parish Courthouse, 2nd Floor—Assessor's Office, 500 Main Street, Franklin, LA 70538.
Nassau County, New York, and Incorporated Areas
Atlantic Ocean | Approximately 100 feet north of the intersection of Washington Boulevard and West Bay Drive | +6 | +9 | Town of Oyster Bay, City of Long Beach, Town of Hempstead, Village of Atlantic Beach.
| Approximately 1,500 feet south of the Jones Beach Causeway and Ocean Parkway traffic circle | +13 | +22 |
Baldwin Bay | At the intersection of Eastern Parkway and South Drive | +6 | +8 | Town of Hempstead, Village of Freeport.
| Approximately 1,100 feet east of the intersection of Milburn Avenue and Mildred Drive | +8 | +11 |
Brosewere Bay | At the intersection of Seawane Place and Seawane Drive | None | +9 | Town of Hempstead, Village of Hewlett Bay Park, Village of Hewlett Harbor, Village of Hewlett Neck, Village of Lawrence, Village of Woodsburgh.
| Approximately 800 feet south of the intersection of Bay Drive and Hickory Road | +8 | +13 |
Cold Spring Harbor | At the end of Laurelton Beach Road | +12 | +9 | Village of Cove Neck, Town of Oyster Bay, Village of Laurel Hollow.
| Approximately 1,200 feet east of the intersection of Ridge Road and Laurel Hollow Road | +13 | +24 |
East Bay | At the intersection of Shore Road and Horace Court | +6 | +7 | Town of Hempstead.
| Approximately 200 feet south of the end of Bay Drive | +8 | +11 |
Head of Bay | At the intersection of Bayswater Boulevard and Walnut Road | +7 | +11 | Town of Hempstead, Village of Cedarhurst, Village of Valley Stream.
| At the intersection of Peninsula Boulevard and Longacre Avenue | +7 | +11 |
Hempstead Harbor | Approximately 175 feet north of the intersection of Lumber Road and Old Northern Boulevard | +14 | +11 | Town of Hempstead, City of Glen Cove, Town of North Hempstead, Town of Oyster Bay, Village of Flower Hill, Village of Roslyn, Village of Roslyn Harbor, Village of Sands Point, Village of Sea Cliff.
| Approximately 500 feet east of the intersection of Forest Drive and Lillian Court | +18 | +23 |
Hewlett Bay (including Mill River, Powell Creek, Rockaway Creek) | At the intersection of Wateredge Azure Place and Heather Lane | None | +9 | Town of Hempstead, Village of East Rockaway, Village of Hewlett Harbor, Village of Island Park, Village of Lyn Brook, Village of Rockville Centre.
| Approximately 500 feet east of the intersection of Harbor Road and Channel Drive | +8 | +12 |
Little Neck Bay | At the end of Pine Drive | +12 | +10 | Village of Great Neck Estates, Town of North Hempstead, Village of Kings Point, Village of Saddle Rock.
| Approximately 500 feet west of the intersection of Greenleaf Hill Road and Grist Mill Lane | +12 | +25 |
Long Island Sound | At the end of Bayville Avenue | +11 | #1 | Town of Oyster Bay, City of Glen Cove, Town of North Hempstead, Village of Bayville, Village of Centre Island, Village of Great Neck, Village of Great Neck Estates, Village of Kings Point, Village of Lattingtown, Village of Saddle Rock, Village of Sands Point.
| Between Valley Road and Greenwich Avenue | +12 | #2 |
| At the intersection of Bayville Avenue and Adams Avenue | +12 | +9 |
| At the end of Kings Point Road Extended | +16 | +27 | Centre Island, Village of Great Neck, Village of Great Neck Estates, Village of Kings Point, Village of Lattingtown, Village of Saddle Rock, Village of Sands Point.
Manhassatt Bay | At the intersection of Mill Pond and Pleasant Avenue | +12 | +11 | Town of North Hempstead, Village of Baxter Estates, Village of Great Neck, Village of Kensington, Village of Kings Point, Village of Manorhaven, Village of Plandome, Village of Plandome Heights, Village of Port Washington North, Village of Sands Point, Village of Thomaston.
| At the end of Dock Lane Extended | +16 | +23
Middle Bay | At the intersection of Lawson Boulevard and Windsor Parkway | +6 | +8 | Town of Hempstead, Village of Freeport.
| Approximately 1,400 feet southwest of the intersection of Mildred Drive and Bertha Drive | +9 | +13
Motts Creek | At a point approximately 1,234 feet downstream of Cochran Place | +7 | +11 | Village of Valley Stream.
| At a point approximately 40 feet downstream of Rockaway Avenue | +10 | +11
Oyster Bay | At the intersection of Maravilla Terrace and Miravista Road | +12 | +9 | Village of Mill Neck, Town of Oyster Bay, Village of Bayville, Village of Centre Island, Village of Cove Neck, Village of Oyster Bay Cove.
| Approximately 1,500 feet northeast of the intersection of Seawanhaka Road and Montecito Drive | +15 | +17
Oyster Bay Harbor | Approximately 1,000 feet south of the intersection of Centre Island Road and Suzanne Drive | +12 | #1 | Village of Centre Island.
Reynolds Channel | Approximately 200 feet east of the intersection of Fitzroy Place and Baker Court | +6 | +8 | Village of Lawrence, City of Long Beach, Town of Hempstead, Village of Atlantic Beach, Village of Island Park.
| Approximately 1,300 feet north of the intersection of Park Avenue and Ohio Avenue | +7 | +13
South Oyster Bay | At the intersection of Greatwater Avenue and Seagull Place | +6 | +7 | Town of Oyster Bay, Town of Hempstead, Village of Massapequa Park.
| Approximately 200 feet east of the intersection of Bayview Place and Ocean Avenue | +8 | +11
Valley Stream | At a point approximately 95 feet downstream of Central Avenue | +7 | +11 | Village of Valley Stream.
| At Sunrise Highway | +10 | +11
Wreck Lead Channel | At the intersection of Lancaster Road and Radcliffe Road | +6 | +8 | Town of Hempstead, City of Long Beach, Village of Island Park.
| Approximately 500 feet southwest of the intersection of Brighton Boulevard and Island Parkway | +7 | +11
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Glen Cove
Maps are available for inspection at Glen Cove City Hall, 9 Glen Street, Glen Cove, NY.
City of Long Beach
Maps are available for inspection at Long Beach City Hall, 1 West Chester Street, Long Beach, NY.
Town of Hempstead
Maps are available for inspection at Hempstead Town Hall, One Washington Street, Hempstead, NY.
Town of North Hempstead
Maps are available for inspection at North Hempstead Town Hall, 220 Plandome Road, Manahsset, NY.
Town of Oyster Bay
Maps are available for inspection at Oyster Bay Town Hall North, 74 Audry Avenue, Oyster Bay, NY.
Village of Atlantic Beach
Maps are available for inspection at Atlantic Beach Village Hall, 65 The Plaza, Atlantic Beach, NY.
Village of Baxter Estates
Maps are available for inspection at Baxter Estates Village Hall, 2 Harbor Road, Port Washington, NY.
Village of Bayville
Maps are available for inspection at Bayville Village Hall, 34 School Street, Bayville, NY.
Village of Cedarhurst
Maps are available for inspection at Cedarhurst Village Hall, 200 Cedarhurst Avenue, Cedarhurst, NY.
Village of Centre Island
Maps are available for inspection at Centre Island Village Hall, 303 Centre Island Road, Oyster Bay, NY.
Village of Cove Neck
Maps are available for inspection at Cove Neck Village Attorney's Office, 147 Forest Avenue, Locust Valley, NY.
Village of East Rockaway
Maps are available for inspection at East Rockaway Village Hall, 376 Atlantic Avenue, East Rockaway, NY.
Village of Flower Hill
Maps are available for inspection at Flower Hill Village Hall, 1 Bonnie Heights Road, Manhasset, NY.
Village of Freeport
Maps are available for inspection at Freeport Village Hall, 46 North Ocean Avenue, Freeport, NY.
Village of Great Neck
Maps are available for inspection at Great Neck Village Hall, 61 Baker Mill Road, Great Neck, NY.
Village of Great Neck Estates
Maps are available for inspection at Great Neck Village Hall, 4 Gateway Drive, Great Neck, NY.
Village of Hewlett Bay Park
Maps are available for inspection at Hewlett Bay Park Village Hall, 30 Piermont Avenue, 11557, NY.
Village of Hewlett Harbor
Maps are available for inspection at Hewlitt Harbor Village Hall, 449 Pepperidge Road, Hewlett, NY.
Village of Hewlett Neck
Maps are available for inspection at Hewlett Neck Village Hall, 30 Piermont Avenue, Hewlett, NY.
Village of Island Park
Maps are available for inspection at Island Park Village Hall, 127 Long Beach Road, Island Park, NY.
Village of Kensington
Maps are available for inspection at Kensington Village Hall, 2 Nassau Drive, Great Neck, NY.
Village of Kings Point
Maps are available for inspection at Kings Point Village Hall, 32 Steppingstone Lane, Kings Point, NY.
Village of Lattingtown
Maps are available for inspection at Lattingtown Village Hall, 299 Lattingtown Road, Lattingtown, NY.
Village of Laurel Hollow
Maps are available for inspection at Laurel Hollow Village Hall, 1492 Laurel Hollow Road, Laurel Hollow, NY.
Village of Lawrence
Maps are available for inspection at Lawrence Village Hall, 196 Central Avenue, Lawrence, NY.
Village of Lyn Brook
Maps are available for inspection at Lynbrook Village Hall, 1 Columbus Drive, Lynbrook, NY.
Village of Manorhaven
Maps are available for inspection at Manorhaven Village Hall, 33 Manorhaven Boulevard, Manorhaven, NY.
Village of Massapequa Park
Maps are available for inspection at Massapequa Park Village Hall, 151 Front Street, Massapequa, NY.
Village of Mill Neck
Maps are available for inspection at Mill Neck Village Hall, 32 Frost Mill Road, Mill Neck, NY.
Village of Oyster Bay Cove
Maps are available for inspection at Oyster Bay Cove Village Hall, #25B-Route 25A, Oyster Bay, NY.
Village of Plandome
Maps are available for inspection at Plandome Village Hall, 65 South Drive, Plandome, NY.
Village of Plandome Heights
Maps are available for inspection at Plandome Heights Village Hall, 37 Orchard Street, Plandome Heights, NY.
Village of Port Washington North
Maps are available for inspection at Port Washington North Village Hall, 71 Old Shore Road, Port Washington, NY.
Village of Rockville Centre
Maps are available for inspection at Rockville Centre Village Hall, 1 College Place, Rockville Centre, NY.
Village of Roslyn
Maps are available for inspection at Roslyn Village Hall, 1200 Old Northern Boulevard, Roslyn, NY.
Village of Roslyn Harbor
Maps are available for inspection at Roslyn Harbor Village Hall, 500 Mottscove Road, Roslyn Harbor, NY.
Village of Saddle Rock
Maps are available for inspection at Saddle Rock Village Hall, 18 Masefield Way, Saddle Rock, NY.
Village of Sands Point
Maps are available for inspection at Sands Point Village Hall, 26 Tibbits Lane, Port Washington, NY.
Village of Sea Cliff
Maps are available for inspection at Sea Cliff Village Hall, 300 Sea Cliff Avenue, Sea Cliff, NY.
Village of Thomaston
Maps are available for inspection at Thomaston Village Hall, 100 East Shore Road, Great Neck, NY.
Village of Valley Stream
Maps are available for inspection at Valley Stream Village Hall, 123 South Central Avenue, Valley Stream, NY.
Village of Woodsburgh
Maps are available for inspection at Woodsburgh Village Hall, 30 Piermont Avenue, Hewlett, NY.

(Catalog of Federal Domestic Assistance No. 97.022, “Flood Insurance.”)

Dated: August 8, 2008.
David I. Maurstad,
Federal Insurance Administrator of the National Flood Insurance Program, Department of Homeland Security, Federal Emergency Management Agency.

[FR Doc. E8-19008 Filed 8-15-08; 8:45 am]

BILLING CODE 9110-12-P